DEPARTMENT OF THE INTERIOR

National Park Service

[NPS-WASO-NRNHL-DTS#-31147; PPWOCRADI0, PCU00RP14.R50000]

National Register of Historic Places; Notification of Pending Nominations and Related Actions

AGENCY: National Park Service, Interior.

ACTION: Notice.

SUMMARY: The National Park Service is soliciting electronic comments on the significance of properties nominated before October 31, 2020, for listing or related actions in the National Register of Historic Places.

DATES: Comments should be submitted electronically by December 1, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before October 31, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

GEORGIA

Glascock County

Stonewall Park Historic District, Roughly Gift, Lytle, Florida, Sanders, and Glenwood Aves. SE, portions of Hemlock Cir., Atlanta, SG100005890

IOWA

Jasper County

First Avenue East Historic District, 415-629 1st Ave. East, 5-10 Cardinal Ct., Newton, SG100005888

First Avenue West Historic District, 414-622 1st Ave. West, Newton, SG100005889

KENTUCKY

Franklin County

Chapel on the Forks, 3984 Georgetown Rd., Frankfort, SG100005892

Madison County

Berea College Square Commercial Historic District, Main St. (100 blk.), Short St. (200 blk.), Center St. (100 blk., 204 Center), Jackson St., (103-105) and Prospect St., Berea, SG100005899

SOUTH DAKOTA

Minnehaha County

Burger, Margaret, Apartment House, 619 South Main Ave., Sioux Falls, SG100005893

TEXAS

Harris County

Houses at 1217 and 1219 Tulane Street, (Houston Heights MRA), 1217 Tulane St., Houston, MP100005898

VIRGINIA

Craig County

Craig County Poor Farm, 630 Poorhouse Farm Run, New Castle vicinity, SG100005895

Middlesex County

Saluda Historic District, Gloucester Rd., General Puller Hwy., Oakes Landing Rd., Saluda, SG100005896

Norfolk Independent City

Diggs, J. Eugene, House, 2509 East Virginia Beach Blvd., Norfolk, SG100005897

WISCONSIN

Brown County

Franciscan Publishers Building, 165 East Pulaski St., Pulaski, SG100005900

Milwaukee County

Harley-Davidson Motor Company Factory No. 7, 228 South 1st St., Milwaukee, SG100005901

Sheridan Apartment Building, 2435 West Wisconsin Ave., Milwaukee, SG100005903

Sheboygan County

Robert C. Pringle (tug) Shipwreck, (Great Lakes Shipwreck Sites of Wisconsin MPS), 8 mi. SE of the Sheboygan harbor entrance in L. Michigan Wilson vicinity, MP100005902

Sheboygan Press, The, 632 Center Ave., Sheboygan, SG100005904

A request for removal has been made for the following resources:

IOWA

Plymouth County

Reeves Farmstead Historic District, 15991 IA 60, LeMars vicinity, OT00001680

OREGON

Multnomah County

Portland General Electric Company Station “L” Group, 1841 SE Water St., Portland, OT85003090

Additional documentation has been received for the following resource:

IOWA

Cherokee County

Cherokee Commercial Historic District (Additional Documentation), Parts of Main, Maple and Willow Sts., between 1st and 6th Sts., Cherokee, AD05000903

Nomination submitted by Federal Preservation Officer:

The State Historic Preservation Officer reviewed the following nomination and responded to the Federal Preservation Officer within 45 days of receipt of the nomination and supports listing the property in the National Register of Historic Places.

ARIZONA

Pima County

Tucson Mountain Park Historic District, (Historic Park Landscapes in National and State Parks MPS), Address Restricted, Tucson vicinity, MP100005891

Authority: Section 60.13 of 36 CFR part 60.

Dated: November 3, 2020.
Sherry A. Frear,
Chief, National Register of Historic Places/National Historic Landmarks Program.

[FR Doc. 2020-25167 Filed 11-13-20; 8:45 am]

BILLING CODE 4312-52-P